ENVIRONMENTAL PROTECTION AGENCY

[EPA-HQ-OPPT-2003-0006; FRL-7765-6]

TSCA Chemical Testing; Receipt of Test Data

AGENCY: Environmental Protection Agency (EPA).

ACTION: Notice.

SUMMARY: This notice announces EPA's receipt of test data regarding In Vitro Dermal Absorption Rate Testing of certain chemicals of interest to the Occupational Safety and Health Administration (OSHA). EPA received data on the following chemicals: Acetonitrile (CAS No. 75-05-8); methyl acetate (CAS No. 79-20-9); propylene dichloride (CAS No. 78-87-5); p-nitroaniline (CAS No. 100-01-6); pentane (CAS No. 109-66-0); n-heptane (CAS No. 142-82-5); and tetrahydrofuran (CAS No. 109-99-9). These data were submitted pursuant to a test rule issued by EPA under section 4 of the Toxic Substances Control Act (TSCA).

FOR FURTHER INFORMATION CONTACT: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

SUPPLEMENTARY INFORMATION:

I. General Information

A. Does this Action Apply to Me?

This action is directed to the public in general. This action may, however, be of interest to those persons who are concerned about data on health and/or environmental effects and other characteristics of these chemicals. Since other entities may also be interested, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPPT-2003-0006. Publicly available docket materials are available electronically at http://www.regulations.gov or in hard copy at the OPPT Docket, EPA Docket Center (EPA/DC), EPA West, Room B102, 1301 Constitution Ave., NW., Washington, DC. The EPA Docket Center Public Reading Room is open from 8:30 a.m. to 4:30 p.m., Monday through Friday, excluding legal holidays. The telephone number for the Public Reading Room is (202) 566-1744, and the telephone number for the OPPT Docket is (202) 566-0280.

2. Electronic access. You may access this Federal Register document electronically through the EPA Internet under the “Federal Register” listings at http://www.epa.gov/fedrgstr/.

II. Test Data Submissions

Section 4(d) of TSCA requires EPA to publish a notice in the Federal Register reporting the receipt of test data submitted pursuant to test rules promulgated under section 4(a) within 15 days after these data are received by EPA.

1. Test data for acetonitrile were submitted by DuPont Chemical Solutions Enterprise and received by EPA on November 7, 2005. The submission includes a final study report titled: “Acetonitrile: In Vitro Dermal Absorption Rate Testing.” (See Document ID No. EPA-HQ-2003-0006-0309).

2. Test data for methyl acetate were submitted by the American Chemistry Council and received by EPA on November 21, 2005. The submission includes a final study report titled: “Methyl Acetate: In Vitro Dermal Absorption Rate Testing.” (See Document ID No. EPA-HQ-2003-0006-0315).

3. Test data for propylene dichloride were submitted by The Dow Chemical Company and received by EPA on December 14, 2005. The submission includes a final study report titled: “Propylene Dichloride: In Vitro Dermal Absorption Rate Testing.” (See Document ID No. EPA-HQ-2003-0006-0319).

4. Test data for p-nitroaniline were submitted by Aceto Corporation and received by EPA on December 27, 2005. The submission includes a final study report titled: “Human Percutaneous Absorption and Cutaneous Disposition of [¹⁴C]-Nitroaniline In Vitro.” (See Document ID No. EPA-HQ-2003-0006-0320).

5. Test data for pentane were submitted by the Alkanes Dermal Absorption Consortium of the American Chemistry Council and received by EPA on December 29, 2005. The submission includes a final study report titled: “Pentane: In Vitro Dermal Absorption Rate Testing.” (See Document ID No. EPA-HQ-2003-0006-0322. This document also contains the results of In Vitro Dermal Absorption Rate Testing for n-heptane).

6. Test data for n-heptane were submitted by the Alkanes Dermal Absorption Consortium of the American Chemistry Council and received by EPA on December 29, 2005. The submission includes a final study report titled: “n-Heptane: In Vitro Dermal Absorption Rate Testing.” (See Document ID No. EPA-HQ-2003-0006-0322. This document also contains the results of In Vitro Dermal Absorption Rate Testing of pentane).

7. Test data for tetrahydrofuran were submitted by the Tetrahydrofuran Task Force (TTF) and received by EPA on November 23, 2005. The submission includes a final study report titled “Determination of the Percutaneous Absorption of THF, In Vitro, Using the Human Cadaver Skin Model.” (See Document ID No. EPA-HQ-2003-0006-0323).

These chemical substances are used in a wide variety of applications as industrial solvents, which may result in exposures of a substantial number of workers as described in the support document for the proposed rule (64 FR 31074, June 9, 1999, Table 3-Exposure Information for Chemical Substances).

EPA has initiated its review and evaluation process for these submissions. At this time, the Agency is unable to provide any determination as to the completeness of the submissions.

Authority: 15 U.S.C. 2603.

List of Subjects

Environmental protection, Hazardous substances.

March 2, 2006.
Jim Willis,
Director, Chemical Control Division, Office of Pollution Prevention and Toxics.

[FR Doc. E6-3586 Filed 3-14-06; 8:45 am]

BILLING CODE 6560-50-S